EQUAL EMPLOYMENT OPPORTUNITY COMMISSION

SES Performance Review Board; Appointment of Members

AGENCY: U.S. Equal Employment Opportunity Commission.

ACTION: Notice.

SUMMARY: Notice is hereby given of the appointment of members to the Performance Review Board (PRB) of the U.S. Equal Employment Opportunity Commission (EEOC).

FOR FURTHER INFORMATION CONTACT: Kevin L. Richardson, Chief Human Capital Officer, U.S. Equal Employment Opportunity Commission, 131 M Street NE, Washington, DC 20507, (202) 663-4306.

SUPPLEMENTARY INFORMATION: Publication of the PRB membership is required by 5 U.S.C. 4314(c)(4). The PRB reviews and evaluates the initial appraisal of a Senior Executive's performance by the supervisor, and makes recommendations to the Chair, EEOC, with respect to performance ratings, pay level adjustments, and performance awards.

The following are the names and titles of executives appointed to serve as members of the SES PRB. Designated members will serve a 12-month term, which begins on November 1, 2019.

PRB Chair

Mr. Robbie Dix, Associate Director, Appellate Review Programs, U.S. Equal Employment Opportunity Commission

Members

Dr. Chris Haffer, Chief Data Officer, U.S. Equal Employment Opportunity Commission

Ms. Carol Miaskoff, Associate Legal Counsel, U.S. Equal Employment Opportunity Commission

Ms. Rosa Viramontes, Program Manager, U.S. Equal Employment Opportunity Commission

Mr. Richard Toscano, Director, Equal Employment Opportunity Staff, U.S. Department of Justice

By the direction of the Commission.
Dated: September 13, 2019.
Reuben Daniels,
Acting Chief Operating Officer.

[FR Doc. 2019-20204 Filed 9-18-19; 8:45 am]

BILLING CODE 6570-01-P